FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 15, 2021.

A. Federal Reserve Bank of Kansas City (Jeffrey Imgarten, Assistant Vice President) 1 Memorial Drive, Kansas City, Missouri 64198-0001:

1. Hailey Ruth Craighead Guadarrama and Franco M. Guadarrama, both of Ardmore, Oklahoma; to join the Craighead Family Group, a group acting in concert, to acquire voting shares of Citizens Commerce Corporation, and thereby indirectly acquire voting shares of Citizens Bank & Trust Company, both of Ardmore, Oklahoma.

Additionally, Steven Chase Martin and Holly Kaitlyn Solley Martin, both of Lone Grove, Oklahoma; Whitney Dell Martin Buck, Larry Dylan Buck, and Kyle Van Craighead, all of Ardmore, Oklahoma; Jeffrey Don Craighead, Amy K. Craighead, and Lindsay Fowler Martin, all of Norman, Oklahoma; and Megan Suzzanne Craighead Engels and Christopher Engels, both of Plano, Texas; to join the Craighead Family Group to retain voting shares of Citizens Commerce Corporation, and thereby indirectly retain voting shares of Citizens Bank & Trust Company.

2. Kerstin Eckstrom, Lincoln, Nebraska; and Lynne Petro, Shoal Creek, Alabama; to join the Olson Family Control Group, a group acting in concert, to retain voting shares of O & F Cattle Company, and thereby indirectly retain voting shares of Nebraska State Bank, both of Oshkosh, Nebraska; and retain voting shares of First National Financial Corporation, and thereby indirectly retain voting shares of Bank of Estes Park, both of Estes Park, Colorado.

Board of Governors of the Federal Reserve System, October 26, 2021.
Michele Taylor Fennell,
Deputy Associate Secretary of the Board.

[FR Doc. 2021-23612 Filed 10-28-21; 8:45 am]

BILLING CODE P